DEPARTMENT OF TRANSPORTATION

Federal Transit Administration

Limitation on Claims Against Proposed Public Transportation Projects

AGENCY: Federal Transit Administration (FTA), DOT.

ACTION: Notice.

SUMMARY: This notice announces a final environmental action taken by the Federal Transit Administration (FTA) for a project in Los Angeles County, California. The purpose of this notice is to announce publicly the environmental decision by FTA on the subject project and to activate the limitation on any claims that may challenge this final environmental action.

DATES: By this notice, FTA is advising the public of final agency actions subject to Section 139(l) of Title 23, United States Code (U.S.C.). A claim seeking judicial review of FTA actions announced herein for the listed public transportation projects will be barred unless the claim is filed on or before May 10, 2018.

FOR FURTHER INFORMATION CONTACT: Nancy-Ellen Zusman, Assistant Chief Counsel, Office of Chief Counsel, (312) 353-2577 or Alan Tabachnick, Environmental Protection Specialist, Office of Environmental Programs, (202) 366-8541. FTA is located at 1200 New Jersey Avenue SE., Washington, DC 20590. Office hours are from 9:00 a.m. to 5:00 p.m., Monday through Friday, except Federal holidays.

SUPPLEMENTARY INFORMATION: Notice is hereby given that FTA has taken final agency action by issuing a certain approval for the public transportation project listed below. The action on the project, as well as the laws under which such action was taken, is described in the documentation issued in connection with the project to comply with the National Environmental Policy Act (NEPA) and in other documents in the FTA administrative record for the project. Interested parties may contact either the project sponsor or the FTA Regional Office for more information. Contact information for FTA's Regional Offices may be found at https://www.fta.dot.gov.

This notice applies to all FTA decisions on the listed project as of the issuance date of this notice and all laws under which such action was taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. The project and action that are the subject of this notice follows:

Project name and location: Section 2 of the Westside Purple Line Extension Project in Los Angeles County, California (the “Project”). Project Sponsor: Los Angeles County Metropolitan Transportation Authority (LACMTA). Project description: The Westside Purple Line Extension Project, formerly Westside Subway Extension Project, would implement a heavy rail transit subway extension of the Metro Purple Line from its current western termini at Wilshire/Western Station to a new western terminus near the West Los Angeles Veterans Affairs (VA) Hospital. The extension will be approximately 9 miles and will include seven new stations. On November 22, 2017, FTA and the LACMTA, issued a Final Supplemental Environmental Impact Statement and Supplemental Record of Decision (SEIS/Supplemental ROD) and Section 4(f) Evaluation. The SEIS/Supplemental ROD was prepared as required by the U.S. District Court for the Central District of California's Order dated August 12, 2016, in Beverly Hills Unified School District v. Federal Transit Administration, et al., Case No. CV 12-9861-GW(SSx). The documents provide additional analysis of Section 2 of the Project between the Wilshire/Rodeo and Century City Constellation Station, which was previously examined in the Final Environmental Impact Statement/Environmental Impact Report (Final EIS-2012) and the Record of Decision (ROD-2012) issued on August 9, 2012.

Final agency actions: Section 4(f) determination; finding that the previous finding of effect under Section 106 remains appropriate per 36 CFR 800.5(d)(2), with concurrence from the California State Historic Preservation Officer; project-level air quality conformity; and Supplemental Record of Decision, dated November 22, 2017. Supporting documentation: Final SEIS and Section 4(f) Evaluation, dated November 2017.

Lucy Garliauskas,
Associate Administrator Planning and Environment.

[FR Doc. 2017-26563 Filed 12-8-17; 8:45 am]

BILLING CODE P